DEPARTMENT OF STATE

[Public Notice 7853]

Determination on Foreign Military Financing Assistance for Egypt

Pursuant to section 7041(a)(1)(C) of the Department of State, Foreign Operations, and Related Programs Appropriations Act, 2012 (Div. I, Pub. L. 112-74) (“the Act”), I hereby determine that it is in the national security interest of the United States to waive the requirements of section 7041(a)(1)(B) of the Act with respect to the provision of Foreign Military Financing for Egypt, and I hereby waive this restriction.

This determination shall be published in the Federal Register and, along with the accompanying Memorandum of Justification, shall be reported to Congress.

Dated: March 23, 2012.
Hillary Rodham Clinton,
Secretary of State.

[FR Doc. 2012-9870 Filed 4-23-12; 8:45 am]

BILLING CODE 4710-31-P